ENVIRONMENTAL PROTECTION AGENCY

[EPA-HQ-OW-2008-0719, FRL-9201-9]

Agency Information Collection Activities; Submission to OMB for Review and Approval; Comment Request; NPDES Animal Sectors (Renewal); EPA ICR No. 1989.07; OMB Control No. 2040-0250

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR describes the nature of the information collection and its estimated burden and cost.

DATES: Additional comments may be submitted on or before October 15, 2010.

ADDRESSES: Submit your comments, referencing Docket ID No. EPA-HQ-OW-2008-0719 to (1) EPA online using http://www.regulations.gov (our preferred method), by e-mail to owdocket@epa.gov, or by mail to: EPA Docket Center, Environmental Protection Agency, Water Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION: EPA has submitted the following ICR to OMB for review and approval according to the procedures prescribed in 5 CFR 1320.12. On February 25, 2010 (75 FR 8695), EPA sought comments on this ICR pursuant to 5 CFR 1320.8(d). EPA received no comments during the comment period. Any additional comments on this ICR should be submitted to EPA and OMB within 30 days of this notice.

EPA has established a public docket for this ICR under Docket ID No. EPA-HQ-OW-2008-0719, which is available for online viewing at http://www.regulations.gov, or in-person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov to submit or view public comments, access the index listing of the contents of the docket, and to access those documents in the docket that are available electronically. Once in the system, select “search,” then key in the docket ID number identified in this document. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: NPDES Animal Sectors (Renewal)

ICR Number: EPA ICR No. 1989.07, OMB Control No. 2040-0250.

ICR Status: This ICR is currently scheduled to expire on July 31, 2012. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The purpose of this ICR is to consolidate, streamline, and update EPA's concentrated animal feeding operations (CAFOs) and concentrated aquatic animal production (CAAP) facility ICRs into the currently approved ICR for CAFOs (OMB Control No. 2040-0250). The two ICRs that are being consolidated in this ICR are: (1) NPDES and ELG Regulatory Revisions for Concentrated Animal Feeding Operations (Final Rule) (OMB Control No. 2040-0250); and (2) Concentrated Aquatic Animal Production (CAAP) Effluent Guidelines (OMB Control No. 2040-0258). Additionally, two activities reported in the NPDES Program ICR (OMB Control No. 2040-0004) that are directly related with CAAP facilities or CAFOs will be incorporated in this ICR. (The two activities are the Permit Application for CAAP facilities using form 2B and Other Noncompliance Reports for CAFOs.)

Burden Statement: The annual public reporting and recordkeeping burden for this collection of information is estimated to average 1.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: concentrated animal feeding operations (CAFOs) and a subset of facilities engaged in aquatic animal production defined in 40 CFR part 451.

Estimated Number of Respondents: 22,844.

Frequency of Response: Varies (On occasion, Daily, Weekly, Monthly, Annually).

Estimated Total Annual Hour Burden: 3,273,678.

Estimated Total Annual Cost: $73,624,822, includes $8,780,398 annualized capital or O&M costs.

Changes in the Estimates: The current burden approved by OMB for the two ICRs being consolidated plus the activities from the NPDES Program ICR being migrated to this ICR is 3,044,140 hours. This consolidated ICR estimates a total burden that is 229,538 hours more than the currently approved burden for the same ICRs (a 7.5 percent increase). The main cause of increase is that the animal agricultural industry has continued to grow and consolidate, which has resulted in a greater number of animal feeding operations (AFOs) that meet the size threshold for being defined as a Large CAFO. The projections also reflect more robust estimates from States and EPA regions on numbers of CAFOs in each. EPA estimates that the industry will grow at an average annual rate of 5.6% over the life of this ICR; with permitted CAFOs growing at an average annual rate of 6.0%.

Dated: September 9, 2010.
John Moses, Director,
Collection Strategies Division.

[FR Doc. 2010-22975 Filed 9-14-10; 8:45 am]

BILLING CODE 6560-50-P